DEPARTMENT OF THE TREASURY

Submission for OMB Review; Comment Request

July 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 25, 2000 to be assured of consideration.

Internal Revenue Service (IRS)

OMB Number: 1545-0217.

Form Number: IRS Form 5735 and Schedule P.

Type of Review: Revision.

Title: Possessions Corporation Tax Credit (Under Sections 936 and 30A); and Allocation of Income and Expenses Under Section 936(h)(5) (Schedule P).

Description: Form 5735 is used to compute the possessions tax credit under sections 936 and 30A. Schedule P is used by corporations that elect to share the income or expenses with their affiliates. Each form provides the IRS with information to determine if the corporations have correctly computed the tax credit and the cost-sharing or profit-split method.

Respondents: Business or other for-profit.

Estimated Number of Respondents/Recordkeepers: 1,371.

Estimated Burden Hours Per Respondent/Recordkeeper:

| Form 5735 | Schedule P
Recordkeeping | 20 hr., 5 min | 9 hr., 48 min.
Learning about the law or the form | 4 hr., 48 min | 1 hr., 27 min.
Preparing the form | 7 hr., 12 min | 2 hr., 36 min.
Copying, assembling, and sending the form to the IRS | 32 min | 16 min.

Frequency of Response: Annually.

Estimated Total Reporting/Recordkeeping Burden: 33,656 hours.

OMB Number: 1545-0314.

Form Number: IRS Forms 6466 and 6467.

Type of Review: Revision.

Title: Transmittal of Forms W-4 Reported Magnetically/Electronically (6466); and Transmittal of Forms W-4 Reported Magnetically/Electronically (Continuation) (6467).

Description: Under Regulation Section 31.3402(f)(2)-1(g), employers are required to submit certain withholding certificates (Form W-4) to the IRS. Transmittal Form 6466 and the continuation sheet Form 6467 are submitted by an employer, or authorized agent of the employer, who will be reporting submissions of Form W-4 on magnetic/electronic media.

Respondents: Business or other for-profit, Not-for-profit institutions, Farms, Federal Government, State, Local or Tribal Government.

Estimated Number of Respondents/Recordkeepers: 100.

Estimated Burden Hours Per Respondent/Recordkeeper:

emsp; | emsp;
Preparing Form 6466 | 18 min.
Preparing Form 6467 | 20 min.

Frequency of Response: Quarterly.

Estimated Total Reporting/Recordkeeping Burden: 133 hours

OMB Number: 1545-0140.

Notice Number: Notice 1027.

Type of Review: Extension.

Title: How to Prepare Media Label for Form W-4.

Description: 26 U.S.C. 3402 requires all employers making payment of wages to deduct (withhold) tax upon such payments. Employers are further required under regulation section 31.3402(f)(2)-1(g) to submit certain withholding certificates (Form W-4) to IRS. Notice 1027 is sent to employers who prefer to file this information on magnetic tape.

Respondents: Business or other for-profit, Not-for-profit institutions, Farms, Federal Government, State, Local or Tribal Government.

Estimated Number of Respondents: 400.

Estimated Burden Hours Per Respondent: 5 minutes.

Frequency of Response: Quarterly.

Estimated Total Reporting Burden: 33 hours.

OMB Number: 1545-0644.

Form Number: IRS Form 6781.

Type of Review: Extension.

Title: Gains and Losses From Section 1256 Contracts and Straddles.

Description: Form 6781 is used by taxpayers in computing their gains and losses from Section 1256 contracts and straddles and their special treatment. The data is used to verify that the tax reported accurately reflects any such gains and losses.

Respondents: Business or other for-profit, Individuals or households.

Estimated Number of Respondents/Recordkeepers: 100,000.

Estimated Burden Hours Per Respondent/Recordkeeper:

Recordkeeping | 11 hr., 28 min.
Learning about the law or the form | 2 hr., 9 min.
Preparing the form | 3 hr., 22 min.
Copying, assembling, and sending the form to the IRS | 16 min.

Frequency of Response: Annually.

Estimated Total Reporting/Recordkeeping Burden: 1,727,000 hours.

OMB Number: 1545-1190.

Form Number: IRS Form 8824.

Type of Review: Extension.

Title: Like-Kind Exchanges.

Description: Form 8824 is used by individuals, partnerships, and other entities to report the exchange of business or investment property, and the deferral of gains from such transactions under section 1031. It is also used to report the deferral of gain under section 1043 by members of the executive branch of the Federal Government.

Respondents: Individuals or households, Business or other for-profit.

Estimated Number of Respondents/Recordkeepers: 200,000.

Estimated Burden Hours Per Respondent/Recordkeeper:

Recordkeeping | 27 min.
Learning about the law or the form | 27 min.
Preparing the form | 1 hr., 2 min.
Copying, assembling, and sending the form to the IRS | 34 min.

Frequency of Response: Annually.

Estimated Total Reporting/Recordkeeping Burden: 499,865 hours.

OMB Number: 1545-1326.

Form Number: IRS Form 2555-EZ.

Type of Review: Extension.

Title: Foreign Earned Income Exclusion.

Description: This form is used by U.S. citizens and resident aliens who qualify for the foreign earned income exclusion. This information is used by the Service to determine if a taxpayer qualifies for the exclusion. Form 2555-EZ is a less burdensome form that will be used where foreign earned income is $76,000 or less.

Respondents: Individuals or households.

Estimated Number of Respondents/Recordkeepers: 43,478.

Estimated Burden Hours Per Respondent/Recordkeeper:

Recordkeeping | 26 min.
Learning about the law or the form | 17 min.
Preparing the form | 42 min.
Copying, assembling, and sending the form to the IRS | 31 min.

Frequency of Response: Annually.

Estimated Total Reporting/Recordkeeping Burden: 84,782 hours.

OMB Number: 1545-1543.

Revenue Procedure Number: Revenue Procedure 97-29.

Type of Review: Extension.

Title: Model Amendments and Prototype Program for SIMPLE IRAs.

Description: The revenue procedure provides guidance to drafters of prototype SIMPLE IRAs on obtaining opinion letters, and provides permissive amendments to sponsors of nonSIMPLE IRAs.

Respondents: Business or other for-profit, Not-for-profit institutions.

Estimated Number of Respondents: 3,205.

Estimated Burden Hours Per Respondent: 8 hours, 4 minutes.

Frequency of Response: On occasion.

Estimated Total Reporting Burden: 25,870 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 00-18846 Filed 7-25-00; 8:45 am]

BILLING CODE 4830-01-P